DEPARTMENT OF JUSTICE

[OMB Number 1125-0016]

Agency Information Collection Activities; Proposed Collection eComments Requested; Extension/Revision of a Previously Approved Collection; Unfair Immigration-Related Employment Practices Complaint Form (Form EOIR-58)

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until August 4, 2025.

FOR FURTHER INFORMATION CONTACT: If you have additional comments, especially on the estimated public burden or associated response time, suggestions, or need a copy of the proposed information collection instrument with instructions or additional information, please contact Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate the quality, utility, and clarity of the information to be collected; and/or

—Minimize the burden of the collection of information on those who are to respond, including through the use of appropriate automated, electronic, mechanical, or other technological collection techniques or other forms of information technology, e.g., permitting electronic submission of responses.

Abstract: Section 274B of the Immigration and Nationality Act (INA) prohibits employment discrimination on the basis of citizenship status or national origin; retaliation or intimidation by an employer against an individual seeking to exercise his or her right under this section; and “document abuse” or over-documentation by the employer, which occurs when the employer asks an applicant or employee for more or different documents than required for employment eligibility verification under INA section 274A, with the intent of discriminating against the employee in violation of section 274B. Individuals who believe that they have suffered discrimination in violation of section 274B may file a charge with the DOJ Immigrant and Employee Rights Section (IER). The IER then has 120 days to determine whether to file a complaint with the EOIR Office of the Chief Administrative Hearing Officer (OCAHO) on behalf of the individual charging party. If the IER chooses not to file a complaint, the individual may then file his or her own complaint directly with OCAHO. This information collection may be used by an individual to file his or her own complaint with OCAHO. The Form EOIR-58 elicits, in a uniform manner, all the required information for OCAHO to assign a section 274B complaint to an Administrative Law Judge for adjudication. Non-substantive revisions are being made throughout the form and instructions to improve formatting, clarity, and grammar. EOIR has also made changes updating the IER mailing address, revising the Privacy Act notice to include a citation to OCAHO's System of Record Notice (SORN), and revising the amount of time estimated to complete the form. Additionally, to account for anticipated expansion of electronic filing capabilities in the future, EOIR is also revising the instructions to clarify differences in filing procedures for those forms filed by mail versus forms filed electronically.

Overview of This Information Collection

1. Type of Information Collection: Extension and Revision of a previously approved collection.

2. The Title of the Form/Collection: Unfair Immigration-Related Employment Practices Complaint Form.

3. The agency form number, if any, and the applicable component of the Department sponsoring the collection: The form number is EOIR-58, and the sponsoring DOJ component is EOIR.

4. Affected public who will be asked or required to respond, as well as the obligation to respond: Affected Public are individuals who wish to file a complaint alleging unfair immigration-related employment practices under INA section 274B. Individuals are obligated to respond to obtain/retain a benefit. However, using this form is voluntary and individuals may alternatively file a written submission alleging unfair immigration-related employment practices under INA section 274B, provided that the alternative submission format meets the requirements for OCAHO complaints as set forth in 28 CFR 68.7. The Form EOIR-58 is simply an optional form provided by OCAHO to guide potential complainants and their representatives to provide the information necessary to satisfy the requirements of 28 CFR 68.7.

5. An estimate of the total number of respondents and the amount of time estimated for an average respondent to respond: It is estimated that 38 respondents will complete the form annually with an average of 1 hour per response.

6. An estimate of the total annual burden (in hours) associated with the collection: The total annual burden hours for this collection is 38 hours.

Total Burden Hours
Activity | Number of respondents | Frequency (annually) | Total annual responses | Time per response | Total annual burden (hours)
EOIR-58 | 38 | 1 | 38 | 60 | 38

7. An estimate of the total annual cost burden associated with the collection, if applicable: The total maximum estimated cost burden to the public associated with this collection is $3,715.26. While respondents may submit the Form EOIR-58 to OCAHO via email, which would result in no filing fee, printing, or mailing costs to the respondent, most filed Forms EOIR-58 are submitted to OCAHO by United States mail. The average Form EOIR-58 submission consists of 150 pages (five copies of the application and supporting evidence including the IER complaint and IER letter informing the individual that they may file Form EOIR-58 with OCAHO) at an estimated average printing cost of ten cents per page, for a total print cost of $15.00 per response. The current Priority Mail postage cost to mail one complete Form EOIR-58 package is estimated at $10.10. There are no filing fees for EOIR-58. There are no labor costs for unrepresented (pro se) individuals because the form may be completed solely by the individual. However, if an individual chooses to obtain representation to complete and file the Form EOIR-58, the cost to the individual will include the average hourly wage for attorneys based on the U.S. Bureau of Labor Statistics average estimate of $72.67 per hour for every hour the attorney spends completing the form. Therefore, the maximum total estimated cost burden to the public is $3,715.26 (($15.00 + $10.10 + $72.67) × 38 responses). EOIR OCAHO continues to work towards implementing full electronic processing with the anticipated implementation of its electronic filing system, which would eliminate the copying and postage costs for filing this form. Until the OCAHO electronic filing system is fully implemented, the affected public may avoid these costs by submitting the Form EOIR-58 via email.

If additional information is required contact: Darwin Arceo, Department Clearance Officer, United States Department of Justice, Justice Management Division, Policy and Planning Staff, Two Constitution Square, 145 N Street NE, 4W-218, Washington, DC.

Dated: June 2, 2025.
Darwin Arceo,
Department Clearance Officer for PRA, U.S. Department of Justice.

[FR Doc. 2025-10220 Filed 6-4-25; 8:45 am]

BILLING CODE 4410-30-P